DEPARTMENT OF ENERGY

Federal Energy Regulatory Commission

[Docket No. IC17-7-000]

Commission Information Collection Activities (FERC-725T); Comment Request

AGENCY: Federal Energy Regulatory Commission, Energy.

ACTION: Comment request.

SUMMARY: In compliance with the requirements of the Paperwork Reduction Act of 1995, the Federal Energy Regulatory Commission (Commission or FERC) is submitting its information collection [FERC-725T, Mandatory Reliability Standards for the Bulk-Power System: TRE Reliability Standards] to the Office of Management and Budget (OMB) for review of the information collection requirements. Any interested person may file comments directly with OMB and should address a copy of those comments to the Commission as explained below. The Commission previously issued a Notice in the Federal Register (82 FR 14215, 3/17/2017) requesting public comments. The Commission received no comments on the FERC-725Tand is making this notation in its submittal to OMB.

DATES: Comments on the collection of information are due by June 30, 2017.

ADDRESSES: Comments filed with OMB, identified by the OMB Control No. 1902-0273 (FERC-725T) should be sent via email to the Office of Information and Regulatory Affairs: oira_submission@omb.gov. Attention: Federal Energy Regulatory Commission Desk Officer. The Desk Officer may also be reached via telephone at 202-395-4718.

A copy of the comments should also be sent to the Commission, in Docket No. IC17-7-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC-725T [Mandatory Reliability Standards for the Bulk-Power System: TRE Reliability Standards]

OMB Control No.: 1902-0273.

Abstract: Reliability Standard BAL-001-TRE-01 applies to entities registered as Generator Owners (GOs), Generator Operators (GOPs), and Balancing Authorities (BAs) within the Texas Reliability Entity region.

Regional Reliability Standard BAL-001-TRE-01 is more comprehensive than the existing continent-wide Reliability Standards addressing frequency response, BAL-001-0.1a and BAL-003-0.1b in that the regional standard includes additional requirements and applies to generator owners and generator operators as well as balancing authorities. The expanded applicability of the regional Reliability Standard, thus, increases the reporting burden for entities that operate within the ERCOT ¹ Interconnection.

¹ Electric Reliability Council of Texas.

The information collection requirements entail the setting or configuration of the Control System software, identification and recording of events, data retention, and submitting frequency measurable events to the compliance enforcement authority (Regional Entity or NERC).

Submitting frequency measurable events. As per Requirement R1, the BA has to identify and post information regarding Frequency Measurable Events (FME). Further, the BA has to calculate and report to the Compliance Enforcement Authority data related to Primary Frequency Response (PFR) performance of each generating unit/generating facility.

Data retention. The BA, GO, and GOP shall keep data or evidence to show compliance, as identified below, unless directed by its Compliance Enforcement Authority to retain specific evidence for a longer period of time as part of an investigation. Compliance audits are generally about three years apart.

• The BA shall retain a list of identified Frequency Measurable Events and shall retain FME information since its last compliance audit for Requirement R1, Measure M1.

• The BA shall retain all monthly PFR performance reports since its last compliance audit for Requirement R2, Measure M2.

• The BA shall retain all annual Interconnection minimum Frequency Response calculations, and related methodology and criteria documents, relating to time periods since its last compliance audit for Requirement R3, Measure M3.

• The BA shall retain all data and calculations relating to the Interconnection's Frequency Response, and all evidence of actions taken to increase the Interconnection's Frequency Response, since its last compliance audit for Requirements R4 and R5, Measures M4 and M5.

• Each GOP shall retain evidence since its last compliance audit for Requirement R8, Measure M8.

• Each GO shall retain evidence since its last compliance audit for Requirements R6, R7, R9 and R10, Measures M6, M7, M9 and M10.

Modification to Governor Controller Setting/Configuration (to be removed from the FERC-725T information collection). This category of response burden is being removed from FERC-725T. The “Modification to Governor Controller Setting/Configuration” category was a one-time requirement related to implementation of the BAL-001-TRE-01 Reliability Standard. Each GO was required to set its governor settings according to Requirement R6. In order to modify its settings, the GO had to generate governor test reports, governor setting sheets, and/or performance monitoring reports. The burden (912 hours) associated with this category was averaged over 2014-2016 ². The response requirements included in this category were complete within 18 months of the effective date of the standard ³ or by 10/1/2015. Due to completion, the corresponding 304 annual burden hours are now being removed.

² The total annual figure for this response category was 304 hours.

³ The effective date of the standard was 4/1/2014.

Type of Respondent: NERC Registered entities (specifically balancing authorities, generator owners, generator operators).

Estimate of Annual Burden: ⁴ The Commission estimates the annual public reporting burden for the information collection as:

⁴ Burden is defined as the total time, effort, or financial resources expended by persons to generate, maintain, retain, or disclose or provide information to or for a Federal agency. For further explanation of what is included in the information collection burden, reference 5 Code of Federal Regulations 1320.3.

⁵ The estimates for cost per hour are based on 2015 wage figures and derived as follows:

• $64.29/hour, the average salary plus benefits per engineer (from Bureau of Labor Statistics at https://www.bls.gov/oes/current/naics2_22.htm).

• $37.75/hour, the salary plus benefits per information and record clerks (from Bureau of Labor Statistics at https://www.bls.gov/oes/current/naics2_22.htm).

All calculated wage figures within the burden table are rounded to the nearest dollar.

⁶ BA (balancing authority)

⁷ BA (balancing authority), GO (generator owner), and GOP (generator operator)

⁸ Rounded from $75.50.

FERC-725T (Mandatory Reliability Standards for the Bulk-Power System: TRE Reliability Standards)
| Number of respondents | Annual number of responses per respondent | Total number of responses | Average burden and cost per response ⁵ | Total annual burden hours and total annual cost | Cost per respondent ($)
| (1) | (2) | (1) * (2) = (3) | (4) | (3) * (4) = (5) | (5) ÷ (1)
Maintenance and Submission of Event Log Data | ⁶ 1 | 1 | 1 | 16 hrs.; $1,029 | 16 hrs.; $1,029 | $1,029
Evidence Retention | ⁷ 130 | 1 | 130 | 2 hrs.; $76 ⁸ | 260 hrs.; $9,815 | $76
Total |  |  | 131 |  | 276 hrs.; $10,844 |

Dated: May 24, 2017.
Kimberly D. Bose,
Secretary.

[FR Doc. 2017-11194 Filed 5-30-17; 8:45 am]

BILLING CODE 6717-01-P